DEPARTMENT OF COMMERCE

National Institute of Standards and Technology

Submission for OMB Review; Comment Request

The Department of Commerce will submit to the Office of Management and Budget (OMB) for clearance the following proposal for collection of information under the provisions of the Paperwork Reduction Act (44 U.S.C. Chapter 35).

Agency: National Institute of Standards and Technology (NIST).

Title: Baldrige Performance Excellent Program (BPEP) Team Leader Consensus and Team Leader Site Visit Information Collections.

OMB Control Number: 0693-0079.

Form Number(s): None.

Type of Request: Extension and revision of a current information collection.

Number of Respondents: Examiner Performance Assessment—40 per year; Team Leader Performance Assessment—300 per year.

Average Hours per Response: Examiner Performance Assessment—20 minutes; Team Leader Performance Assessment—5 minutes.

Burden Hours: Examiner Performance Assessment—13.5 hours; Team Leader Performance Assessment—25 hours.

Needs and Uses: The purpose of the information is to help staff collect data on the skills of the examiners, including alumni examiners, in order to best manage training and selection. Because the examiner selection is so competitive, examiners need to demonstrate competencies such as understanding the Baldrige Criteria, team skills, and writing skills. The program also needs to collect peer-based information to understand an examiner's skill level in order to make decisions on whether the examiner should be elevated to “senior examiner” and therefore team leader. The blinded data will be shared with the team leader for improvement purposes, and for future assignments.

Affected Public: Individual or Households.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-22620 Filed 10-16-19; 8:45 am]

BILLING CODE 3510-13-P